DEPARTMENT OF THE INTERIOR

Bureau of Land Management

[LLCOF02000 L12200000.ID0000-16X]

Road Closure and Restrictions on Public Lands in Fremont County, CO

AGENCY: Bureau of Land Management, Interior.

ACTION: Notice.

SUMMARY: Notice is hereby given that a two-year motor vehicle closure is in effect for a one-quarter mile section of the Point Barr Road (BLM 5969), located on public lands managed by the Bureau of Land Management (BLM) Royal Gorge Field Office. The motorized vehicle road closure is needed to protect the public and property due to unsafe road conditions. The public is permitted to use this road during the closure period without the use of a motorized vehicle. Access by foot, horse or bicycle travel is allowed. Heavy rains and flash flooding in late summer 2015 caused a constructed road retention wall to fail, making this and other portions of the road unsafe for motorized vehicle traffic.

DATES: This closure order will be in effect on November 7, 2016 and will remain in effect until November 7, 2018, unless otherwise rescinded or modified by the authorized officer or designated Federal officer.

FOR FURTHER INFORMATION CONTACT: Keith E. Berger, Royal Gorge Field Office Manager, at 3028 East Main Street, Cañon City, Colorado, 81212, or telephone 719-539-8500. Persons who use a telecommunications device for the deaf (TDD) may call the Federal Relay Service at 1-800-877-8339 to contact Mr. Berger. The Service is available 24 hours a day, seven days a week, to leave a message or question with Mr. Berger. You will receive a reply during normal business hours.

SUPPLEMENTARY INFORMATION: This closure affects a one-quarter mile road segment that provides access to the Point Barr Recreation Area located in Fremont County, Colorado, approximately 10 miles east of Salida, Colorado. The road affected by this closure is found in:

New Mexico Principal Meridian, Fremont County, Colorado

T. 49 N., R. 10 E.,

Sec. 28, lot 6.

The road closure will remain effective until November 7, 2018, unless otherwise rescinded or modified by the authorized officer or designated Federal officer. The BLM will post closure signs alerting the public that the road is closed to motorized vehicles at the main entry points of the closed road. This notice, maps of the affected area, and associated documents will also be posted in the BLM Royal Gorge Field Office, 3028 East Main Street, Cañon City, Colorado, 81212.

Exemptions: The following persons are exempt from this order:

• Federal, State, and local officers and employees operating in the scope of their official duties;

• Members of organized rescue or fire-fighting forces in the performance of their official duties; and

• Any person authorized in writing by the BLM.

Penalties: Any person who violates this closure may be tried before a United States Magistrate and fined in accordance with 18 U.S.C. 3571, imprisoned no more than 12 months under 43 U.S.C. 1733(a) and 43 CFR 8360.0-7, or both. In accordance with 43 CFR 8365.1-7, State or local officials may also impose penalties for violations of Colorado law.

Authority: 43 CFR 8364.1.

Ruth Welch,
BLM Colorado State Director.

[FR Doc. 2016-26819 Filed 11-4-16; 8:45 am]

BILLING CODE 4310-JB-P